RAILROAD RETIREMENT BOARD

Proposed Collection; Comment Request

SUMMARY: In Accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection; Application for Employee Annuity Under the Railroad Retirement Act; OMB 3220-0002.

Section 2 of the Railroad Retirement Act (RRA), provides for payment of age and service, disability and supplemental annuities to qualified employees. The basic requirements for a regular employee annuity retirement annuity under the RRA is 120 months (10 years) of creditable railroad service. Benefits then become payable after the employee meets certain other requirements, which depend, in turn, on the type of annuity payable. The requirements relating to the annuities are prescribed in 20 CFR 216, and 220.

The forms used by the RRB to collect information needed for determining entitlement and the amount of, an employee retirement annuity follow: Form AA-1, Application for Employee Annuity Under the Railroad Retirement Act, is completed by an applicant for either an age and service or disability annuity. It obtains information about the applicants marital history, work history, military service, benefits from other governmental agencies and railroad pensions. Form AA-1d, Application for Determination of Employee Disability, is completed by an employee who is filing for a disability annuity under the RRA, or a disability freeze under the Social Security Act for early Medicare based on a disability. Form G-204, Verification of Workers Compensation/Public Disability Benefit Information, is used to obtain and verify information concerning worker's compensation or public disability benefits that are or will be paid by a public agency to a disabled railroad employee. Completion of the forms is required to obtain a benefit. One response is requested of each respondent.

The RRB proposes minor non-burden impacting editorial and formatting changes to Forms AA-1, AA-1d and G-204. The RRB estimates that 13,4000 Form AA-1's, 5,650 AA-1d's and 50 G-204's are completed annually. The estimated completion time for Form AA-1 is 37 to 62 minutes per response. The estimated completion time for Form AA-1d is 35 to 60 minutes per response. The estimated completion time for Form G-204 is 15 minutes per response.

The renewal of this information collection will continue the RRB's initiative to consolidate information collections by major functional areas. The purpose of the initiative is to bring related collection instruments together in one collection, better manage the instruments, and prepare for the electronic collection of this information. (A collection instrument can be an individual form, electronic collection, interview, or any other method that collects specific information from the public.)

As part of the OMB renewal process, the RRB proposes that this collection (OMB 3220-0002). Application for Employee Annuity under the Railroad Retirement Act, be renamed RRA Benefit Applications. Upon approval by OMB, the RRB intends to merge the following OMB approved collections into this collection by the expected expiration date(s).

OMB collection No. | Title | RRB forms | Expected expiration date
3220-0016 | Certification of Relinquishment of Rights | G-88 | 5/31/2002
3220-0021 | Evidence of Marital Relationship; Living with Requirements | G-124, G-124a, G-237, G-238, G-238a | 1/31/2003
3220-0030 | Application for Survivor Insurance Annuities | AA-17, AA-17 CERT, AA-17b, AA-18, AA-19, AA-20 | 2/28/2004
3220-0031 | Application for Survivor Death Benefits | AA-21, G-273a, AA-11a, G-131, AA-21 CERT | 1/31/2003
3220-0032 | Survivor Questionnaire | RL-94-F | 6/30/2003
3220-0042 | Application for Spouse Annuity Under the Railroad Retirement Act | AA-3 | 6/30/2003
3220-0083 | Evidence for Application of Overall Minimum | G-319, G-320 | 11/30/2003
3220-0099 | Statement Regarding Contributions and Support | G-134 | 6/30/2002
3220-0106 | Application for Search of Census Records | G-256 | 7/31/2001
3220-0123 | Student Beneficiary Monitoring | G-315, G-315a, G-315a.1 | 11/30/2003
3220-0136 | Public Service Pension Questionnaire | G-208, G-212 | 3/31/2004
3220-0138 | Self-Employment Questionnaire | AA-4 | 3/31/2004
3220-0140 | Employee's Certification | G-346 | 1/31/2003
3220-0154 | Employee Noncovered Service Pension Questionnaire | G-209 | 7/31/2002
3220-0155 | Supplement to Claim of Person Outside the United States | G-45 | 6/30/2001
3220-0195 | Statement Regarding Contributions and Support of Children | G-139 | 2/28/2002

Revisions to existing collection instruments and, occasionally, a new instrument related to this program function may be required during the three-year cycle of this information collection. The RRB currently estimates the completion time for Form G-88, Certification of Termination of Service and Relinquishment of Rights at 6 minutes, Form G-124, Statement of Martial Relationship at 15 to 20 minutes, Form G-124a, Statement Regarding Marriage at 10 minutes, Form G-237, Statement Regarding Martial Status at 15 to 20 minutes, Form G-238, Statement of Residence at 3 to 5 minutes, Form G-238a, Statement Regarding Divorce or Annulment at 10 minutes, Form AA-17, Application for Widow(ers) Annuity at 47 minutes, Form AA-17cert, Application Summary and Certification at 20 minutes, Form AA-17b, Application for Determination of Widow(ers) Disability at 40 to 50 minutes, Form AA-18, Application for Mother's/Father's and Childs Annuity at 47 minutes, Form AA-19, Application for Child's Annuity at 47 minutes, Form AA-20, Application for Parent's Annuity at 47 minutes, Form AA-21, Application for Lump-Sum Death Payments and Annuities Unpaid at Death at 40 minutes, Form G-273a, Funeral Director's Statement of Burial Charges at 10 minutes, Form AA-11a, Designation or Change of Beneficiary for Residual Lump Sum at 10 minutes, Form G-131, Authorization of Payment and Release of All Claims to a Death Benefit or Accrued Annuity Payment at 5 minutes, Form AA-21CERT, Application Summary and Certification, at 20 minutes, Form RL-94-F. Survivor Questionnaire, at 5 to 11 minutes, Form AA-3, Application for Spouse/Divorce Spouse Annuity, at 14 to 30 minutes, Form G-319, Employee Annuitant's Statement Regarding Family and Earnings, at 25 to 60 minutes, Form G-320, Statement by Employee Annuitant Regarding Student Age 18-19, at 14-30 minutes, Form G-134, Statement Regarding Contributions and Support, at 75 to 85 minutes, Form G-256, Application for Search of Census Records, at 10 minutes, Form G-315, Student Questionnaire, at 7 minutes, Form G-315a, Statement by School Official of Student's Full-Time Attendance, at 2 minutes, Form G-315a.1, Notice of Cessation of Full-Time Attendance, at 2 minutes, Form G-208, Public Service Pension Questionnaire, at 15 minutes, Form G-212, Public Service Pension Monitoring Questionnaire, at 3 minutes, Form AA-4, Self-Employment and Substantial Service Questionnaire, at 40 to 70 minutes, Form G-346, Employee's Certification, at 5 minutes, G-209, Employee Noncovered Service Pension Questionnaire at 1 to 8 minutes, G-45, Supplement to Claim of Person Outside the United States, at 10 minutes, G-139, Statement Regarding Contributions and Support of Children, at 15 minutes.

After the last information collection is merged and other necessary adjustments are made, the resultant information collection is expected to total approximately 17,904 annual burden hours. A justification for each action described above (merge collection, revised collection instrument, new collection instrument) will be provided to OMB with a Correction Change Worksheet (OMB Form 83-C) at the time the action occurs. With the next renewal of this collection, the RRB will update the information collection package to account for the consolidation and other interim adjustments.

ADDITIONAL INFORMATION OR COMMENTS: To request more information or to obtain a copy of the information collection justification, forms, and/or supporting material, please call the RRB Clearance Officer at (312)751-3363. Comments regarding the information collection should be addressed to Ronald J. Hodapp, Railroad Retirement Board, 844 North Rush Street, Chicago, Illinois 60611-2092. Written comments should be received within 60 days of this notice.

Chuck Mierzwa,
Clearance Officer.

[FR Doc. 00-32739 Filed 12-21-00; 8:45 am]

BILLING CODE 7905-01-M